DEPARTMENT OF COMMERCE

National Oceanic and Atmospheric Administration

50 CFR Part 679

[I.D. 031705E]

RIN 0648-AS90

Fisheries of the Exclusive Economic Zone Off Alaska; License Limitation Program for the Scallop Fishery

AGENCY: National Marine Fisheries Service (NMFS), National Oceanic and Atmospheric Administration (NOAA), Commerce.

ACTION: Proposed rule; availability of an amendment to a fishery management plan; request for comments.

SUMMARY: The North Pacific Fishery Management Council (Council) has submitted Amendment 10 to the Fishery Management Plan for the Scallop Fishery off Alaska (FMP) for review by the Secretary of Commerce (Secretary). Amendment 10 would modify the gear endorsements under the license limitation program (LLP) for the scallop fishery to increase the dredge size allowed on vessels that qualify for the gear restriction endorsement. This action is necessary to allow increased participation by LLP license holders in the scallop fisheries off Alaska. This action is intended to promote the goals and objectives of the Magnuson-Stevens Fishery Conservation and Management Act (Magnuson-Stevens Act), the FMP, and other applicable laws.

DATES: Written comments on the amendments must be received on or before May 23, 2005.

ADDRESSES: Send comments to Sue Salveson, Assistant Regional Administrator, Sustainable Fisheries Division, Alaska Region, NMFS, Attn: Lori Durall. Comments may be submitted by:

• E-mail to Scallop10-NOA-0648-AS90@noaa.gov. Include in the subject line the following document identifier: Scallop 10. E-mail comments, with or without attachments, are limited to 5 megabytes;

• Webform at the Federal eRulemaking Portal: www.regulations.gov. Follow the instructions at that site for submitting comments;

• Hand delivery to the Federal Building, 709 West 9th Street, Room 420A, Juneau, AK;

• Mail to P.O. Box 21668, Juneau, AK 99802; or

• Fax to 907-586-7557.

Copies of Amendment 10 and the Environmental Assessment/Regulatory Impact Review/Initial Regulatory Flexibility Analysis (EA/RIR/IRFA) for this action may be obtained from the NMFS Alaska Region at the address above or from the Alaska Region website at http://www.fakr.noaa.gov/.

FOR FURTHER INFORMATION CONTACT: Gretchen Harrington, phone: 907-586-7228 or e-mail: gretchen.harrington@noaa.gov.

SUPPLEMENTARY INFORMATION: The Magnuson-Stevens Act requires that each regional fishery management council submit any FMP amendment it prepares to NMFS for review and approval, disapproval, or partial approval by the Secretary. The Magnuson-Stevens Act also requires that NMFS, upon receiving an FMP amendment, immediately publish a notice in the Federal Register announcing that the amendment is available for public review and comment.

Beginning in 2001, NMFS required a Federal scallop LLP license on board any vessel deployed in the scallop fisheries in Federal waters off Alaska. The LLP was implemented through approval of Amendment 4 to the FMP by the Secretary on June 8, 2000, and the final rule implementing Amendment 4 was published December 14, 2000 (65 FR 78110). The LLP was established to limit harvesting capacity in the Federal scallop fishery off Alaska. NMFS issued a total of nine LLP licenses. Licenses were issued to holders of either Federal or state moratorium permits who used their moratorium permits to make legal landings of scallops in each of any two calendar years during the period beginning January 1, 1996, through October 9, 1998. The licenses authorize their holders to catch and retain scallops in all waters off Alaska that are open for scallop fishing.

Licenses based on the legal landings of scallops harvested only from Cook Inlet (State Registration Area H) during the qualifying period have a gear restriction endorsement that limited allowable gear to a single 6-foot (1.8 m) dredge when fishing for scallops in any area. NMFS issued two licenses with this gear endorsement. The purpose of this gear restriction was to prevent expansion in overall fishing capacity by not allowing relatively small operations in Cook Inlet to increase their fishing capacity. The other seven licenses, based on the legal landings of scallops harvested from other areas outside Cook Inlet during the qualifying period, have no gear endorsement, but are limited to two 15-foot (4.5 m) dredges under existing state regulations.

Since the LLP was implemented, the Council found that the gear restriction endorsement may create a disproportionate economic hardship for those two LLP license holders with the endorsement when they fish in Federal waters, especially in light of the state's observer requirements and their associated costs. In February 2004, the Council developed a problem statement and four alternatives for analysis of modifying or eliminating the gear restriction for the two licenses affected by the gear restriction.

In October 2004, the Council voted unanimously to recommend Amendment 10 to change the single 6-foot (1.8 m) dredge restriction endorsement to a gear restriction endorsement of two dredges with a combined width of no more that 20-foot (6.096 m). This change would allow the two LLP license holders with the current gear endorsement to fish in Federal waters outside Cook Inlet with larger dredges. The Council recommended this change because it found that it is not economically viable for vessels to operate outside Cook Inlet with the existing gear restrictions. The Council also concluded that, because of changes to the fleet after the LLP was implemented due to the formation of a voluntary fishing cooperative, these two vessels could increase their capacity and enhance economic viability in statewide waters outside Cook Inlet without increasing overall fishing effort to the extent that it would jeopardize the total fleet's ability to operate at a sustainable and economically viable level. Amendment 10 would provide the two vessels with a larger share of the total catch that could better offset their observer costs and enhance their economic viability.

An EA/RIR/IRFA was prepared for Amendment 10 that describes the management background, the purpose and need for action, the management alternatives, and the environmental and socio-economic impacts of the alternatives (see ADDRESSES).

Written public comments are being solicited on proposed Amendment 10 through the end of the comment period stated (see DATES). All comments received by the end of the comment period on the amendment will be considered in the approval/disapproval decision. Comments received after that date will not be considered in the approval/disapproval decision on the amendment. To be considered, comments must be received not just postmarked or otherwise transmitted by the close of business on the last day of the comment period. NMFS will soon publish the proposed regulations to implement Amendment 10.

Authority: 16 U.S.C. 1801 et seq.

Dated: March 18, 2005.
Alan D. Risenhoover,
Acting Director, Office of Sustainable Fisheries, National Marine Fisheries Service.

[FR Doc. 05-5860 Filed 3-23-05; 8:45 am]

BILLING CODE 3510-22-S